NUCLEAR REGULATORY COMMISSION

[NRC-2014-0001]

Sunshine Act Meeting Notice

DATE: Weeks of March 3, 10, 17, 24, 31, April 7, 2014.

PLACE: Commissioners' Conference Room, 11555 Rockville Pike, Rockville, Maryland.

STATUS: Public and Closed.

Week of March 3, 2014

Monday, March 3, 2014

1:30 p.m. Briefing on Human Reliability Program Activities and Analyses (Public Meeting); (Contact: Sean Peters, 301-251-7582).

This meeting will be webcast live at the Web address— http://www.nrc.gov/.

Tuesday, March 4, 2014

9:00 a.m. Briefing on Security Issues (Closed—Ex. 1).

1:30 p.m. Briefing on Security Issues (Closed—Ex. 1).

Friday, March 7, 2014

10:00 a.m. Meeting with the Advisory Committee on Reactor Safeguards (ACRS) (Public Meeting); (Contact: Ed Hackett, 301-415-7360).

This meeting will be webcast live at the Web address— http://www.nrc.gov/.

Week of March 10, 2014—Tentative

There are no meetings scheduled for the week of March 10, 2014.

Week of March 17, 2014—Tentative

Friday, March 21, 2014

1:00 p.m. Briefing on Waste Confidence Rulemaking (Public Meeting); (Contact: Andrew Imboden, 301-287-9220).

This meeting will be webcast live at the Web address— http://www.nrc.gov/.

Week of March 24, 2014—Tentative

There are no meetings scheduled for the week of March 24, 2014.

Week of March 31, 2014—Tentative

There are no meetings scheduled for the week of March 31, 2014.

Week of April 7, 2014—Tentative

Thursday April 10, 2014

9:00 a.m. Meeting with Organization of Agreement States (OAS) and Conference of Radiation Control Program Directors (CRCPD) (Public Meeting) (Contact: Cindy Flannery, 301-415-0223).

This meeting will be webcast live at the Web address— http://www.nrc.gov/.

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: February 27, 2014.
Rochelle Bavol,
Policy Coordinator, Office of the Secretary.

[FR Doc. 2014-04764 Filed 2-27-14; 4:15 pm]

BILLING CODE 7590-01-P